COMMITTEE FOR PURCHASE FROM PEOPLE WHO ARE BLIND OR SEVERELY DISABLED

Procurement List; Proposed Additions and Deletion

AGENCY: Committee for Purchase From People Who Are Blind or Severely Disabled.

ACTION: Proposed Additions to and Deletion from the Procurement List.

SUMMARY: The Committee is proposing to add products and services to the Procurement List that will be furnished by nonprofit agencies employing persons who are blind or have other severe disabilities, and deletes a product previously furnished by such agency.

Comments Must Be Received on or Before: 5/26/2014.

ADDRESSES: Committee for Purchase From People Who Are Blind or Severely Disabled, 1401 S. Clark Street, Suite 10800, Arlington, Virginia, 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN: 7350-00-290-0586—Cup, Disposable, Paper, Hot Food, 16 oz, White

NSN: 7350-00-926-9233—Plate, Paper, Disposable, 3-Compartmented Tray, Rectangular, White, 8″ × 10″

NPA: The Lighthouse for the Blind in New Orleans, Inc., New Orleans, LA

Contracting Activity: GENERAL SERVICES ADMINISTRATION, FORT WORTH, TX

Coverage: A-List for the Total Government Requirement as aggregated by the General Services Administration.

NSN: MR 592—Pad, Cleaning, Sponge and Eraser, 2PK

NPA: New York City Industries for the Blind, Inc., Brooklyn, NY

Contracting Activity: DEFENSE COMMISSARY AGENCY, FORT LEE, VA

Coverage: C-List for the requirements of military commissaries and exchanges as aggregated by the Defense Commissary Agency.

Services

Service Type/Location: Janitorial Service, US Coast Guard, Air Station Atlantic City, William J. Hughes Federal Aviation Administration Technical Center, Atlantic City International Airport, FAA Technical Center, Building 350, Egg Harbor Township, NJ.

NPA: Fedcap Rehabilitation Services, Inc., New York, NY.

Contracting Activity: DEPARTMENT OF HOMELAND SECURITY, U.S. COAST GUARD, BASE PORTSMOUTH, PORTSMOUTH, VA.

Service Type/Location: Healthcare Housekeeping and Related Service, U.S. Army Medical Command, Madigan Army Medical Center and affiliated Medical Treatment Facilities, Joint Base Lewis-McChord, WA, 2199 Storage Street, Suite 68, Fort Sam Houston, TX.

NPA: HHI Services Inc., San Antonio, TX.

Contracting Activity: DEPT OF THE ARMY, W40M USA MEDCOM HCAA, FORT SAM HOUSTON, TX.

Deletion

The following product is proposed for deletion from the Procurement List:

Product

Strap, Webbing

NSN: 5340-00-235-4434

NPA: Huntsville Rehabilitation Foundation, Huntsville, AL

Contracting Activity: DEFENSE LOGISTICS AGENCY TROOP SUPPORT, PHILADELPHIA, PA

Barry S. Lineback,
Director, Business Operations.

[FR Doc. 2014-09404 Filed 4-24-14; 8:45 am]

BILLING CODE 6353-01-P